DEPARTMENT OF TRANSPORTATION

Federal Aviation Administration

14 CFR Part 91

[Docket No. FAA-2003-15230]

Call for Information on Supersonic Aircraft Noise

AGENCY: Federal Aviation Administration (FAA), DOT.

ACTION: Request for information and notice of workshop.

SUMMARY: The FAA is soliciting technical information from other Federal agencies, industries, universities, and other interested parties on the mitigation of sonic boom from supersonic aircraft. The FAA is trying to determine whether there is sufficient new data supported by flight over land. This document solicits information on the latest research and development activities directed at mitigating sonic boom. The FAA may use this information of future rulemaking actions.

DATES: Send your comments on or before September 30, 2003.

ADDRESSES: Address your comments to the Docket Management System, U.S. Department of Transportation, Room Plaza 401, 400 Seventh Street, SW., Washington, DC 20590-0001. You must identify the docket number FAA-2003-15230 at the beginning of your comments, and you should submit two copies of your comments. If you wish to receive confirmation that FAA received your comments, include a self-addressed, stamped postcard.

You may also submit comments through the Internet to http://dms.dot.gov. You may review the public docket containing comments to this notice in person in the Docket Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Laurette Fisher, Office of Environment and Energy (AEE-100), Federal Aviation Administration, 800 Independence Avenue, SW., Washington, DC 20591; telephone (202) 267-3561; facsimile (202) 267-5594.

SUPPLEMENTARY INFORMATION:

Comments Invited

The FAA invites interested persons to participate in this effort by submitting written comments, data, or views. We also invite comments relating to the economic, environmental, energy, or federalism impacts that might result if this effort resulted in amending FAA sonic boom regulations.

We will file in the docket all comments we receive, and the docket is available for public inspection before and after the comment closing date. If you wish to review the docket in person, go to the address in the ADDRESSes section of this preamble between 9 a.m. and 5 p.m., Monday through Friday, except Federal holidays. You may also review the docket using the Internet at the web address in the ADDRESSES section.

Background

The FAA uses the term sonic boom to refer to a high-pressure air disturbance directed toward the ground by an aircraft flying supersonically and creating noise unacceptable to the public. Supersonic flight over land by civil aircraft is prohibited in the United States.

Supersonic Aircraft Regulations

The current regulations applicable to supersonic aircraft are found in 14 CFR part 36, Subpart D, “Noise Limits for Supersonic Transport Category Airplanes,” and 14 CFR part 91, Subpart I, “Operating Noise Limits.” The noise certification levels for the Concorde airplane are in part 36. This regulation requires that the noise levels of the airplane must be reduced to the lowest levels that are economically reasonable, technologically practicable, and appropriate for a Concorde type design.

Part 91 prohibits civil aircraft operation at greater than Mach 1 over the United States. Part 91 also imposes flight limitations to ensure that civil supersonic flight entering or leaving the United States will not cause a sonic boom to reach the surface within the United States.

In 1990, the FAA proposed to amend the type certification noise standards and noise operating rules for future-generation civil supersonic airplanes. After analyzing the comments received on the Notice of Proposed Rulemaking (NPRM), the FAA determined that further investigation and research was necessary before a final rule could be developed. Accordingly, the FAA withdrew the proposed rule and instead issued a policy on noise issues involving the development of future generation civil supersonic transport airplanes.

With respect to future civil supersonic airplanes, specific noise standards have not yet been established. The FAA anticipates that any future proposed standards for civil supersonic airplanes would require that an airplane have no greater noise impact on a community than a civil subsonic airplane certified to Stage 3 noise levels.

U.S. Civil Programs

There have been two recent supersonic aircraft technology development programs sponsored by the U.S. government. They are the High Speed Civil Transport (HSCT) program sponsored by the National Aeronautics and Space Administration (NASA), and the Quiet Supersonic Platform (QSP) program sponsored by the Defense Advanced Research Project Agency (DARPA). These programs included both military and civil aircraft.

In the late 1980's, NASA initiated a partnership with Boeing and McDonnell Douglas to develop the technology for a commercial supersonic transport. This activity was called the High Speed Civil Transport (HSCT) program. In 1999, the HSCT program was terminated. Boeing cited the high cost of developing a supersonic airplane, along with anticipated more stringent federal regulations regarding noise and emissions as the reason for terminating the program. NASA's research and technology (R&T) effort on HSCT was also terminated. In 2000, NASA requested that the National Research Council (NRC) conduct a study to identify breakthrough technologies for overcoming key barriers to the development of an environmentally acceptable and economically viable commercial supersonic aircraft. The study, “Commercial Supersonic Technology, The Way Ahead,” concluded that no insurmountable obstacles exist to viable commercial supersonic aircraft. The study further concluded that while NASA should have its eye on supersonic commercial transport, it remains appropriate to conduct research on sonic boom even when related to smaller supersonic business jets.

The DARPA's QSP program, which began in 2000, was a congressionally mandated effort to develop technologies that could mitigate the impact of sonic boom to 0.3 pounds per square feet over-pressure propagated to the ground. This is significantly less then the 2.0 pounds per square feet created by the Concorde that is restricted from flying at supersonic speeds over land. The QSP Program initially included both military and civil aircraft. In 2003, the QSP Program is scheduled to conduct a flight demonstration to investigate sonic boom signature shaping and propagation.

In 2001, the NASA Langley Research Center was directed by Congress to expand on the civil part of DARPA's QSP Program. This program is ongoing.

In addition, at least one U.S. manufacturer has an ongoing technology effort, the goal of which is the development of supersonic civil aircraft that are deemed environmentally acceptable for supersonic operations over land.

Request for Information

The FAA is requesting information regarding current commercial supersonic aircraft development and associated sonic boom reduction technology. The FAA may use the information received to initiate rulemaking that addresses new supersonic technologies and related noise effects.

The FAA is requesting information in the following general topics of technical information. Please submit any information or comments to the Docket Management System using the docket number given in the “ADDRESSES” paragraph above.

(1) A summary of advancements made since the 1999 High Speed Civil Transport (HSCT) program;

(2) Understanding the effects of sonic boom to aid in the establishment of sonic boom impact criteria;

(3) The technical challenges in making the noise created by sonic boom acceptable;

(4) The sonic boom prediction models available to support future noise impact studies; and

(5) Whether supersonic aircraft can function within the present commercial airport infrastructure and what airport accessibility issues need to be addressed.

The FAA encourages all interested parties to participate in this opportunity to offer the latest information on supersonic aircraft noise and technologies. The FAA will evaluate the information received to aid in the consideration of future rulemaking.

In addition, the FAA is planning to conduct a technical workshop in the next six months to allow subject matter experts to discuss their research data and findings. The FAA will publish a notice in the Federal Register announcing the date and place of the workshop.

Information on this project will be up-dated and made available on an FAA Web site located at http.//www.aee.faa.gov/noise/sst.html.

All comments submitted in response to this notice and information presented at the workshop will be filed in the docket. The docket is available for public inspection at any time. Anyone submitting information is cautioned that it will not be considered proprietary unless properly marked and separately submitted. Information presented in a workshop setting is not considered proprietary.

Issued in Washington DC on May 13, 2003.
Carl Burleson,
Director of Environment and Energy.

[FR Doc. 03-13038 Filed 5-22-03; 8:45 am]

BILLING CODE 4910-13-M